DEPARTMENT OF THE INTERIOR

Bureau of Ocean Energy Management

[MMAA 104000]

Cancellation of Oil and Gas Lease Sale 237 in the Chukchi Sea Planning Area on the Outer Continental Shelf (OCS)

AGENCY: Bureau of Ocean Energy Management (BOEM), Interior.

ACTION: Cancellation of Chukchi Sea Lease Sale 237.

SUMMARY: The Department of the Interior has decided to cancel Chukchi Sea Lease Sale 237, which was scheduled to occur in 2016 under the 2012-2017 OCS Oil and Gas Leasing Program. Sale 237 is being canceled due to lack of industry interest; current market conditions (e.g., low oil prices); and the unavailability of many of the most attractive tracts, which are already under lease at this time.

FOR FURTHER INFORMATION CONTACT: David Diamond, BOEM, Chief, Leasing Division, at (703) 787-1776 or david.diamond@boem.gov.

Dated: November 18, 2015.
Abigail Hopper,
Director, Bureau of Ocean Energy Management.

[FR Doc. 2015-30299 Filed 11-27-15; 8:45 am]

BILLING CODE 4310-MR-P